DEPARTMENT OF HOMELAND SECURITY

Federal Emergency Management Agency

[Docket ID FEMA-2008-0010]

National Fire Academy Board of Visitors

AGENCY: Federal Emergency Management Agency, DHS.

ACTION: Committee Management; Notice of Federal Advisory Committee meeting.

SUMMARY: On Tuesday, March 29, 2011, the Federal Emergency Management Agency (FEMA) announced in the Federal Register at 76 FR 17425 that the National Fire Academy Board of Visitors would meet on April 6 and 7, 2011, in Emmitsburg, Maryland. This notice supplements that original meeting notice.

DATES: The National Fire Academy Board of Visitors meeting was held on Wednesday, April 6, 2011, from 8:30 a.m. to 5 p.m., EST; and Thursday, April 7, 2011, 8:30 a.m. to 1 p.m., EST.

ADDRESSES: The meeting was held at the National Emergency Training Center, Building H, Room 300, Emmitsburg, Maryland. Written materials and comments for the meeting record should be submitted by April 28, 2011. Comments must be identified by FEMA-2008-0010 and may be submitted by one of the following methods:

• Federal eRulemaking Portal: http://www.regulations.gov. Follow the instructions for submitting comments.

• E-mail: FEMA-RULES@dhs.gov. Include the docket ID in the subject line of the message.

• Fax: 703-483-2999.

• Mail: Ruth MacPhail, 16825 South Seton Avenue, Emmitsburg, Maryland 21727.

Instructions: All submissions received must include the words “Federal Emergency Management Agency” and the docket ID for this action. Comments received will be posted without alteration at http://www.regulations.gov, including any personal information provided.

Docket: For access to the docket to read background documents or comments received by the National Fire Academy Board of Visitors, go to http://www.regulations.gov.

FOR FURTHER INFORMATION CONTACT: Ruth MacPhail, 16825 South Seton Avenue, Emmitsburg, Maryland 21727, telephone (301) 447-1117, fax (301) 447-1173, and e-mail ruth.macphail@dhs.gov.

SUPPLEMENTARY INFORMATION: Notice of this meeting is given under the Federal Advisory Committee Act, 5 U.S.C. App. (Pub. L. 92-463). The purpose of the Board of Visitors (Board) for the National Fire Academy (Academy) is to review annually the programs of the Academy and advise the Administrator, Federal Emergency Management Agency (FEMA), through the United States Fire Administrator, regarding the operation of the Academy and any improvements therein that the Board deems appropriate.

The Board met for the purpose of examining Academy programs to determine whether these programs further the basic missions of the Academy and to make comments and recommendations regarding the operations of the Academy. The Board also met to discuss curriculum updates, personnel changes, facility construction, outreach to women and minority applicants, and professional development and other programs for State and metropolitan fire service training agencies. The meeting was open to the public.

The Federal Advisory Committee Act requires that notices of meetings of advisory committees be announced in the Federal Register 15 days prior to the meeting date. A notice of the meeting of the Board was published in the Federal Register on March 29, 8 days prior to the meeting, due to administrative error. Although the meeting notice was published in the Federal Register late, the Academy sent special e-mail notices to 30,000 citizens who had expressed interest in learning about Academy activities and meetings, and notice of the meeting was posted on the United States Fire Administrator's Web site at http://www.usfa.dhs.gov.

Dated: April 4, 2011.
Glenn A. Gaines,
Deputy Fire Administrator, National Fire Academy, United States Fire Administration, Federal Emergency Management Agency.

[FR Doc. 2011-8858 Filed 4-12-11; 8:45 am]

BILLING CODE 9111-45-P